DEPARTMENT OF THE INTERIOR

Bureau of Land Management

[WO-350-1430-EU-24 1A]

Extension of Approved Information Collection, OMB Approval Number 1004-0153

AGENCY: Bureau of Land Management, Interior.

ACTION: Notice and request for comments.

SUMMARY: In accordance with the Paperwork Reduction Act of 1995, the Bureau of Land Management (BLM) is requesting the Office of Management and Budget (OMB) to extend an existing approval to collect information from persons who seek to acquire the Federally-owned (reserved) mineral interests underlying their surface estate. BLM collects this information to verify that the applicant is the surface owner that overlies the Federally-owned mineral rights and that statutory requirements for their conveyance are met. The regulations under 43 CFR Part 2720 authorize BLM to collect information (no specific form is required) to convey Federally-owned mineral interests to surface owners if certain conditions are met.

DATES: You must submit your comments to the address below no later than November 24, 2008. Comments received or postmarked after this date may not be considered.

ADDRESSES: You may submit comments by any of the following methods:

Mail: U.S. Department of the Interior, Director (630), Bureau of Land Management, Mail Stop 401 LS, 1849 C St., NW., (Attention: 1004-0153), Washington, DC 20240.

Personal or messenger delivery: 1620 L Street, NW., Room 401, Washington, DC 20036.

E-mail: information_collection@blm.gov (Attn.: 1004-0153).

All comments will be available for public review at the L Street address during regular business hours (7:45 a.m. to 4:15 p.m.), Monday through Friday except Federal holidays. Before including your address, telephone number, e-mail address, or other personal identifying information in your comment, be advised that your entire comment—including your personal identifying information—may be made publicly available at any time. While you can ask in your comment to withhold from public review your personal identifying information, we cannot guarantee that we will be able to do so.

FOR FURTHER INFORMATION CONTACT: You may contact Alzata L. Ransom, Division of Lands, Realty and Cadastral Survey, on (202) 452-7772 (Commercial or FTS). Persons who use a telecommunication device for the deaf (TDD) may call the Federal Information Relay Service (FIRS) on 1-800-877-8330, 24 hours a day, seven days a week, to contact Ms. Ransom.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Section 209 of the Federal Land Policy and Management Act of 1976 and implementing regulations at 43 CFR part 2720 establish procedures for BLM to convey Federally-owned (reserved) mineral interests to non-Federal surface ownership, if the value of the surface use or planned use exceeds the value of the mineral rights, or that there are no minerals there, and that the mineral rights prevent beneficial surface use. The regulations authorize BLM to collect this information (no specific form is required) to determine if BLM may convey the Federally-owned mineral interests to surface owners who apply and meet the statutory requirements. We list in 43 CFR 2720.1-2 the specific information requirements you must submit when applying for a conveyance of Federally-owned mineral interests. Without this information, BLM would not be able to analyze and approve applications to convey Federally-owned mineral interests that interfere with beneficial surface uses.

Based upon BLM experience administering the regulations, we estimate the public reporting information collection burden to be 10 hours per application. The respondents are surface owners in which the mineral interests are reserved or owned by the United States. The estimated number of responses per year is 30 and the total annual burden is 300 hours.

BLM will summarize all responses to this notice and include them in the request for OMB approval. All comments will become a matter of public record.

Dated: September 18, 2008.
Ted R. Hudson,
Acting Information Collection Clearance Officer, Bureau of Land Management.

[FR Doc. E8-22244 Filed 9-22-08; 8:45 am]

BILLING CODE 4310-84-P